DEPARTMENT OF ENERGY

Federal Energy Regulatory Commission

[Project No. 14512-000]

KC Pittsfield, LLC; Notice of Preliminary Permit Application Accepted for Filing and Soliciting Comments, Motions To Intervene, and Competing Applications

On April 18, 2013, KC Pittsfield, LLC filed an application for a preliminary permit, pursuant to section 4(f) of the Federal Power Act (FPA), proposing to study the feasibility of the Old Cow Creek Open-Channel Hydro Project (Old Cow Creek Project or project) to be located on Old Cow Creek, near Whitmore, California. The sole purpose of a preliminary permit, if issued, is to grant the permit holder priority to file a license application during the permit term. A preliminary permit does not authorize the permit holder to perform any land-disturbing activities or otherwise enter upon lands or waters owned by others without the owners' express permission.

The proposed project would consist of the following: (1) A diversion intake on Old Cow Creek located just above Pacific Gas & Electric Company's (PG&E) existing diversion; (2) a new 100-cubic foot per second canal that would run parallel to PG&E's existing 3-mile-long canal; (3) a powerhouse located adjacent to the existing PG&E powerhouse; (4) two 3-megawatt conventional hydroelectric turbines; and (5) appurtenant facilities. The estimated average generating capacity of the project would be 31 gigawatt hours.

Applicant Contact: Ms. Kelly Sackheim, KC Pittsfield, LLC, 5096 Cocoa Palm Way, Fair Oaks, CA 95628, Telephone (301) 401-5978

FERC Contact: Joseph Hassell; phone: (202) 502-8079.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14512-000.

More information about this project, including a copy of the application, can be viewed or printed on the “eLibrary” link of Commission's Web site at http://www.ferc.gov/docs-filing/elibrary.asp. Enter the docket number (P-14512) in the docket number field to access the document. For assistance, contact FERC Online Support.

Dated: February 19, 2014.
Kimberly D. Bose,
Secretary.

[FR Doc. 2014-04040 Filed 2-25-14; 8:45 am]

BILLING CODE 6717-01-P